DEPARTMENT OF DEFENSE

Office of the Secretary

[Docket ID DoD-2014-OS-0113]

Proposed Collection; Comment Request

AGENCY: Defense Logistics Agency, DoD.

ACTION: Notice.

SUMMARY: In compliance with the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 22, 2014.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Attn: David Henry, DTS-PMO Suite 09F09-02, 4800 Mark Center Drive, Alexandria, VA 22350.

SUPPLEMENTARY INFORMATION:

Title; Associated Form; and OMB Number: Defense Travel System Web Portal; OMB Control Number 0704-XXXX.

Needs and Uses: DTS (Defense Travel System) is a paperless system that provides DoD authorized users/travelers with automated travel planning and reimbursement capabilities. There are 2 groups of public travelers associated with DoD that DTS collects privacy information in order to book travel through the system.

1. Family members of DoD employees (Military and Civilian)

2. Invitational traveler. Persons invited by DoD who are not federal employees, contractors or foreign military personnel.

The following information is collected from family members of DoD Employees (Military and Civilian):

• Family members first, middle and last name

• Family members relationship to the sponsor

• Family members passport number and expiration date

• Family members date of birth

The following information is collected from DoD Invitational Traveler.

• Invitational traveler's first name, middle initial and last name

• Invitational traveler's gender

• Invitational traveler's Social Security Number or Tax Identification Number (foreign national only)

• Invitational traveler's address

The system used to collect the data contains Privacy Act Statements as required by 5 U.S.C. 522a(e)(3). Only authorized personnel with “need to know” can access an individual's PII information.

Affected Public: Family members of DoD military and civilian employees and eligible persons invited by DoD who are not federal employees, contractors or foreign military personnel.

Annual Burden Hours: 734,597 hours.

Number of Respondents: 4,407,584.

Responses per Respondent: 1.

Average Burden per Response: 10 minutes.

Frequency: As needed.

The Defense Travel System (DTS) is a fully integrated, automated, end-to-end travel management system that enables DoD travelers to create authorizations and reservations, receive approvals, generate travel vouchers, and receive a split disbursement between their bank account and the Government Travel Charge Card. The traveler can access DTS via a single web portal available 24 hours a day, seven days a week. Only DoD military and civilian employees are issued DTS user account. Dependent family members travel arrangements are booked under the sponsorship of DTS user account holder. Invitational travelers are booked under the sponsorship of the requesting DoD organization or agency. Only necessary privacy information specified above are collected in order to complete travel booking through DTS.

Dated: July 18, 2014.
Aaron Siegel,
Alternate OSD Federal Register, Liaison Officer, Department of Defense.

[FR Doc. 2014-17284 Filed 7-22-14; 8:45 am]

BILLING CODE 5001-06-P